DEPARTMENT OF HEALTH AND HUMAN SERVICES

Centers for Disease Control and Prevention

Public Health Service Act; Delegation of Authority

Notice is hereby given that the Director, National Center for Emerging and Zoonotic Infectious Diseases (NCEZID), Centers for Disease Control and Prevention (CDC), has delegated to the Deputy Director for Infectious Diseases (DDID); the Deputy Director, NCEZID; the Deputy Director for Management and Operations, NCEZID; and the Deputy Director, Division of Global Migration and Quarantine (DGMQ), NCEZID, without authority to redelegate, the authorities vested in the Director, CDC, under sections 361(a), (b), (c), and (d) and 362, Title III, of the Public Health Service Act (Control of Communicable Diseases) (42 U.S.C. 264 and 265 et seq.), as amended, to issue and sign quarantine, isolation and conditional release orders.

This delegation became effective on October 1, 2021.

Dated: October 26, 2021.
Sherri A. Berger,
Chief of Staff, CDC.

[FR Doc. 2021-23950 Filed 11-2-21; 8:45 am]

BILLING CODE 4163-18-P